DEPARTMENT OF TREASURY

Office of Inspector General

Senior Executive Service Performance Review Board Membership

AGENCY: Office of Inspector General, Department of the Treasury (TOIG).

ACTION: Notice.

SUMMARY: The Treasury Office of Inspector General (TOIG) announces the appointment of persons to serve as members of its Performance Review Board (PRB). The purpose of the PRB is to provide fair and impartial review of the annual SES performance appraisal; to make recommendations to appointing officials regarding acceptance or modification of the performance rating; and to make recommendations for performance-based awards and performance-based pay increases.

ADDRESSES: Treasury Office of Inspector General, 850 15th Street NW, Washington, DC.

FOR FURTHER INFORMATION CONTACT: Anthony Cameron, Human Resources Specialist at 202.927.9668.

SUPPLEMENTARY INFORMATION: The membership of the TOIG's PRB is as follows:

Leigh Searight

Nancy House

Javier Inclan

Rene Rocque

(Authority: 5 U.S.C. 4314(c)(4))

Nancy N. Osborn,
Human Resources Director, TOIG, Federal Register Certifying Officer.

[FR Doc. 2025-20568 Filed 11-20-25; 8:45 am]

BILLING CODE 4810-YV-P